DEPARTMENT OF ENERGY

Federal Energy Regulatory Commission

[Docket No. EC02-28-000]

International Transmission Company; Notice of Filing

November 23, 2001.

Take notice that on November 21, 2001, International transmission Company filed an Application for Authorization to Transfer Joint Open Access transmission tariff and Related Agreements pursuant to Section 203 of the Federal Power Act.

Since the Midwest ISO is scheduled to begin providing transmission service on January 1, 2002, International Transmission respectfully requested that the Commission grant a shortened (fourteen (14) day) notice period in this docket.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before December 5, 2001. Protests will be considered by the Commission to determine the appropriate action to be taken, but will not serve to make protestants parties to the proceedings. Any person wishing to become a party must file a motion to intervene. Copies of this filing are on file with the Commission and are available for public inspection. This filing may also be viewed on the Commission's web site at http://www.ferc.gov using the “RIMS” link, select “Docket#” and follow the instructions (call 202-208-2222 for assistance). Comments, protests and interventions may be filed electronically via the internet in lieu of paper. See, 18 CFR 385.2001(a)(1)(iii) and the instructions on the Commission's web site under the “e-filing” link.

Linwood A. Watson, Jr.,
Acting Secretary.

[FR Doc. 01-29618 Filed 11-28-01; 8:45 am]

BILLING CODE 6717-01-P